DEPARTMENT OF TRANSPORTATION

Federal Aviation Administration

14 CFR Part 71

[Docket No. FAA-2024-0635; Airspace Docket No. 23-AWP-20]

RIN 2120-AA66

Modification of Class E Airspace; Yerington Municipal Airport, Yerington, NV; Correction

AGENCY: Federal Aviation Administration (FAA), DOT.

ACTION: Final rule; correction.

SUMMARY: The FAA is correcting a final rule that was published in the Federal Register on June 18, 2024. The final rule modified Class E airspace extending upward from 700 feet above the surface at Yerington Municipal Airport, Yerington, NV. This action corrects an error in the airspace legal description.

DATES: Effective 0901 UTC, September 5, 2024. The Director of the Federal Register approves this incorporation by reference action under 1 CFR part 51, subject to the annual revision of FAA Order 7400.11, Airspace Designations and Reporting Points, and publication of conforming amendments.

ADDRESSES: FAA Order 7400.11H and subsequent amendments can be viewed online at www.faa.gov//air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

History

The FAA published a final rule in the Federal Register (89 FR 51407; June 18, 2024) for Docket FAA-2024-0635, which modified Class E airspace extending upward from 700 feet above the surface at the Yerington Municipal Airport, Yerington, NV. Subsequent to publication, the FAA identified that line three of the Class E airspace legal description displayed the geographic coordinates for the airport as “lat. 39°00′19″ N, long. 111°09′24″ W,” which was incorrect. The geographic coordinates for the airport in line three of the legal description should be “lat. 39°00′19″ N, long. 119°09′24″ W.” This action corrects the error.

Correction to the Final Rule

In FR Doc 2024-13179 at 51408, published in the Federal Register on June 18, 2024, the FAA makes the following corrections:

1. On page 51408, in the third column, correct the first three lines of the legal description for Yerington, NV, to read as follows:

AWP NV E5 Yerington, NV [Amended]

Yerington Municipal Airport, NV

(Lat. 39°00′19″ N, long. 119°09′24″ W)

Issued in Des Moines, Washington, on July 1, 2024.
B.G. Chew,
Group Manager, Western Service Center, Operations Support Group.

[FR Doc. 2024-14859 Filed 7-8-24; 8:45 am]

BILLING CODE 4910-13-P